DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2014 New York City Housing and Vacancy Survey.

OMB Control Number: 0607-0757.

Form Number(s): H-100, H-108, H-100(L), H-100L(A).

Type of Request: Reinstatement, with change, of an expired collection.

Burden Hours: 9,391.

Number of Respondents: 18,800.

Average Hours Per Response: 28 minutes.

Needs and Uses: The U.S. Census Bureau requests approval to conduct the 2014 New York City Housing and Vacancy Survey (NYCHVS). The Census Bureau will conduct this survey for the New York City Department of Housing Preservation and Development (NYCHPD). Pursuant to the Local Emergency Housing Rent Control Act of 1962 (as amended) as well as Sections 26-414 and 26-415 of the Administrative Code of the City of New York, a survey is required in order to determine the supply, condition, and vacancy rate of housing in the city. The NYCHPD must take this survey every three years. The Census Bureau has conducted this survey for the city since 1962, most recently in 2011.

Census Bureau field representatives will conduct personal visit interviews for a sample of housing units in the City, the vast majority of which are rental units in multi-unit rental structures (apartment buildings). Single-family rental or owner-occupied units (houses), however, are not excluded from the sample. We will interview residents (occupied units) or other knowledgeable people such as a building manager, superintendent, or rental or real estate agent (vacant units) to gather information on vacancy rates, housing costs, and the income of residents. About ten percent of the sample will be reinterviewed for quality control purposes.

At the request of the sponsor, NYCHPD, we made the following changes to the survey instrument, Form H-100: (a) Reduced the number of possible rent subsidy options for renter-occupied units, (b) added three new housing condition questions, (c) reduced the number of health-related items, and, (d) eliminated the maintenance questions for owner-occupied units. As a result, we have checked that the average interview time will remain about the same as these changes overall will result in a negligible difference.

The 2014 NYCHVS will be an up-to-date and comprehensive data source required by rent regulation laws as well as a source of data needed to evaluate the city's housing policies. Specifically, the city will look to the 2014 survey to provide accurate and reliable estimates of the rental and homeowner vacancy rates, to measure improvements in housing and neighborhood conditions, and to provide data on low-income, doubled-up, and crowded households at risk of becoming homeless. The city will use the results to develop programs and policies that aim to improve housing conditions for their citizens.

Affected Public: Individuals or households, businesses or other for-profit.

Frequency: Every three years.

Respondent's Obligation: Voluntary.

Legal Authority: Title 13 U.S.C., Section 8b.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: May 8, 2013.
Glenna Mickelson,
Management Analyst, Office of the Chief Information Officer.

[FR Doc. 2013-11244 Filed 5-10-13; 8:45 am]

BILLING CODE 3510-07-P